DEPARTMENT OF COMMERCE

Foreign-Trade Zones Board

[B-31-2018]

Foreign-Trade Zone 87—Lake Charles, Louisiana; Application for Subzone; Driftwood LNG, LLC; Sulphur, Louisiana

An application has been submitted to the Foreign-Trade Zones (FTZ) Board by the Lake Charles Harbor & Terminal District, grantee of FTZ 87, requesting subzone status for the facility of Driftwood LNG, LLC, located in Sulphur, Louisiana. The application was submitted pursuant to the provisions of the Foreign-Trade Zones Act, as amended (19 U.S.C. 81a-81u), and the regulations of the FTZ Board (15 CFR part 400). It was formally docketed on May 17, 2018.

The proposed subzone (782 acres) is located at 8000 Global Drive in Sulphur (Calcasieu Parish), Louisiana. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is July 2, 2018. Rebuttal comments in response to material submitted during the foregoing period may be submitted during the subsequent 15-day period to July 16, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: May 17, 2018.
Andrew McGilvray,
Executive Secretary.

[FR Doc. 2018-10904 Filed 5-21-18; 8:45 am]

BILLING CODE 3510-DS-P